DEPARTMENT OF TRANSPORTATION

Federal Aviation Administration

[Docket No. FAA-2024-0189]

Agency Information Collection Activities: Requests for Comments; Clearance of a New Approval of Information Collection: Unmanned Aircraft System (UAS) Integration at Airports and Necessary Planning, Design, and Physical Infrastructure Needs

AGENCY: Federal Aviation Administration (FAA), DOT.

ACTION: Notice and request for comments.

SUMMARY: In accordance with the Paperwork Reduction Act of 1995, FAA invites public comments about our intention to request the Office of Management and Budget (OMB) approval for a new information collection. The collection involves conducting research in the form of interviews with aviation stakeholders (e.g., airport/droneport operators, private entities, original equipment manufacturers, unmanned aircraft system (UAS) industry vendors, academia, representatives of the military, aviation stakeholders, etc.) to catalog current and planned droneport planning, design, and infrastructure needs, as well as find out which airports are integrating UAS into the airport environment. During each interview, the FAA will ask the stakeholders a specific set of questions, and if necessary, fact-specific follow-up questions will be posed to clarify and enhance the respondent's answers to the specified set of questions. The information to be collected is necessary because it will allow the FAA to understand how aviation stakeholders are integrating UAS into existing airport design standards/infrastructure and standalone facilities also referred to as droneports. Currently, no formal FAA definition of droneport currently exists. Based on the results of this research effort, the FAA may develop a formal definition for a droneport. For the purposes of this research effort, a modified version of the 14 Code of Federal Regulations Part 1 definition of `airport' is used to define droneport: `an area of land or water that is used or intended to be used for the landing and takeoff of UAS aircraft, and includes its buildings and facilities, if any.' The information collected will also be used to help the FAA to shape future droneport research efforts and possible standards and guidance material.

DATES: Written comments should be submitted by April 2, 2024.

ADDRESSES: Please send written comments:

By Electronic Docket: www.regulations.gov (Enter docket number into search field).

By Mail: Michael DiPilato, Airport Research Specialist, FAA Airport Technology Research and Development Branch (ANG-E26), FAA William J. Hughes Technical Center, Bldg. 301 (FAA Hangar), Atlantic City, NJ 08405.

By Fax: 609-485-4845.

FOR FURTHER INFORMATION CONTACT: Michael DiPilato by email at: michael.dipilato@faa.gov; phone: 609-485-7249.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Unmanned Aircraft System (UAS) Integration at Airports and Necessary Planning, Design, and Physical Infrastructure Needs.

Form Numbers: None.

Type of Review: New information collection.

Background: The aviation industry is experiencing expedited growth in new and innovative aircraft design and operation. One of these concepts has been unmanned aircraft systems (UAS), commonly referred to as `drones'. The proliferation of interest in and use of UAS has led to significant policy and regulatory adaptations to safely integrate these platforms into the airport environment. The FAA defines a UAS as `an unmanned aircraft and the equipment necessary for the safe and efficient operation of that aircraft. An unmanned aircraft is a component of a UAS. It is defined by statute as an aircraft that is operated without the possibility of direct human intervention from within or on the aircraft (Pub. L. 112-95, Section 331(8)).' As the technology and its use continues to mature, the FAA is committed to conducting research and providing policy and guidance to ensure the safe operation of UAS, whether autonomous or remotely piloted, in and around the airport environment. As more UAS Concept of Operations (CONOPS) propose operations involving the airport environment and droneports, there is a need to consider if unique requirements or recommendations for the planning, design, and physical infrastructure needs are necessary.

On May 9, 2023, the FAA's Office of Airports—Airport Emerging Entrants Division (AAS-200) officially sent the FAA's Airport Technology Research and Development Branch (ATR) a `Request for Research' to conduct research on Unmanned Aircraft System (UAS) Integration at Airports and Necessary Planning, Design, and Physical Infrastructure Needs. This `Request for Research' was reviewed and approved by the Research, Engineering, and Development Advisory Committee (REDAC) Subcommittee on Airports. Established in 1989, the FAA's REDAC provides advice and recommendations to the FAA Administrator on the needs, objectives, plans, approaches, content, and accomplishments of the aviation research portfolio. The REDAC also assists in ensuring FAA present and future aviation research activities are coordinated with similar research being conducted outside the FAA. The REDAC Subcommittee on Airports includes members from the following affiliations: academia, aircraft manufacturers, an airline pilot union, airport authorities, aviation industry organizations, and environmental advocates.

As part of the Request for Research (i.e., research effort), discussed above, the FAA will conduct interviews with stakeholders, in the form of in-person and virtual meetings, with representatives from the following organizations: airports, droneports, private entities, original equipment manufacturers, UAS industry vendors, the military, international aviation community, and academia. During each interview, the FAA will ask the stakeholders a specific set of questions, and if necessary, fact-specific follow-up questions will be posed to clarify and enhance the respondent's answers to the specified set of questions.

The purpose of these interviews will be to catalog and inventory current and prospective droneports and gather key insights from these operators. In addition, the research team will document stakeholder's experiences/lessons learned with integrating or operating UAS at airports and independent droneport operations.

The results from this research effort will be summarized in a final report and will be used to shape the FAA's operational evaluations and possible development of standards and guidance documents pertaining to planning, design, and physical infrastructure needs, as well as safety standards, for fixed-wing and rotary operations. This effort will primarily focus on UAS aircraft weighing 55 pounds or more and include operational considerations for cargo transport. Vehicles with weights lower than 55 pounds will be considered where applicable. Both fixed wing and rotary operational will be considered to create a baseline understanding before establishing infrastructure design requirements and safety standards for existing and standalone facilities referred to as a droneport.

Respondents: Approximately 100 airport operators, droneport operators, original equipment manufacturers, private entities, UA industry vendors, representatives of the military, the international aviation community, and academia.

Frequency: Information will be collected one to two times annually.

Estimated Average Burden per Response: 2.5-4.5 hours.

Estimated Total Annual Burden: 250-400 hours.

Issued in Atlantic City, NJ, on January 29, 2024.
Michael DiPilato,
Airport Research Specialist, FAA Aviation Research Division, Airport Technology Research and Development Branch (ANG-E26).

[FR Doc. 2024-02054 Filed 2-1-24; 8:45 am]

BILLING CODE 4910-13-P